OFFICE OF PERSONNEL MANAGEMENT

Submission for Review: Renewal of an Existing Information Collection, (Generic Clearance for Improving Customer Experience), OMB Control No. 3206-0276

AGENCY: Office of Personnel Management (OPM).

ACTION: 30-Day notice and request for comments.

SUMMARY: In accordance with the Paperwork Reduction Act of 1995, OPM is proposing revisions to a currently approved information collection, OMB Control Number, 3206-0276: Generic Clearance for Improving Customer Service.

DATES: Comments are encouraged and will be accepted until June 20, 2024.

ADDRESSES: Written comments and recommendations for proposed information collection requests should be sent within 30 days of publication of this notice to www.reginfo.gov/public/do/PRAMain. Find this particular information collection request by selecting “Office of Personnel Management” under “Currently Under Review,” then check “Only Show ICR for Public Comment” checkbox.

FOR FURTHER INFORMATION CONTACT: For specific questions related to this information collection activities, please contact. Human Resources Solution, Office of Personnel Management, 1900 E. Street NW, Washington, DC 20415, Attention: Michelle Earley, or via electronic mail to michelle.earley@opm.gov or phone at 202-936-2034.

SUPPLEMENTARY INFORMATION: OPM, in accordance with the Paperwork Reduction Act of 1995 (PRA) (44 U.S.C. 3506(c)(2)(A)), provides the public with an opportunity to comment on proposed, revised, and continuing collections of information. This helps the Agency assess the impact of its information collection requirements and minimize the public's reporting burden. It also helps the public understand the Agency's information collection requirements and provides the requested data in the desired format.

OPM is soliciting comments on the proposed information collection request (ICR) that is described below. OPM has revised language to conform with revisions to OMB Circular A-11 Section 280 regarding customer satisfaction surveys and updated the number of respondents and total burden hours included under this generic clearance for the following types of collections: customer interviews, focus groups, feedback surveys, user testing (rapid feedback), and user testing (deep dives). This ICR was previously published in the Federal Register on October 31, 2023, at 88 FR 74540 allowing for a 60-day public comment period. No comments were received for this ICR. The purpose of this notice is to allow an additional 30 days for public comments. The Agency is especially interested in public comment addressing the following issues: (1) whether this collection is necessary to the proper functions of the Agency; (2) whether this information be processed and used in a timely manner; (3) the accuracy of the burden estimate; (4) ways the Agency can enhance the quality, utility, and clarity of the information to be collected; and (5) ways the Agency can minimize the burden of this collection on the respondents, including through the use of information technology. Written comments received in response to this notice will be considered public records.

Analysis

Agency: Office of Personnel Management.

Title: OPM Customer Experience.

OMB Number: 3206-0276.

Affected Public: Individuals.

Number of Respondents: 4,013,750.

Estimated Time per Respondent: 15 minutes.

Total Burden Hours: 1,006,125 hours.

Office of Personnel Management.
Kayyonne Marston,
Federal Register Liaison.

[FR Doc. 2024-10937 Filed 5-20-24; 8:45 am]

BILLING CODE 6325-43-P